DEPARTMENT OF THE INTERIOR

National Park Service

[NPS-WASO-NRNHL-22950; PPWOCRADI0, PCU00RP14.R50000]

National Register of Historic Places; Notification of Pending Nominations and Related Actions

AGENCY: National Park Service, Interior.

ACTION: Notice.

SUMMARY: The National Park Service is soliciting comments on the significance of properties nominated before February 11, 2017, for listing or related actions in the National Register of Historic Places.

DATES: Comments should be submitted by March 27, 2017.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before February 11, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Pulaski County

Homard, Isaac, House, 1217 W. 3rd St., Little Rock, SG100000777

CALIFORNIA

Alameda County

Melrose Baptist Church, 1638 47th Ave., Oakland, SG100000778

Fresno County

Azteca Theater, (Latinos in 20th Century California MPS), 836-840 F St., Fresno, MP100000779

Los Angeles County

Grand Central Air Terminal, 1310 Air Way, Glendale, SG100000780

Grether and Grether Building, 730-732 S. Los Angeles St., Los Angeles, SG100000781

Pan American National Bank of East Los Angeles, (Latinos in 20th Century California MPS), 3620-3626 E. 1st St., East Los Angeles, MP100000782

San Luis Obispo County

Halcyon Historic District, Bounded by Halcyon Rd., The Pike and CA 1/Cienega St., Halcyon, SG100000783

COLORADO

Chaffee County

Cleora Cemetery, E. US 50, S. side, 1.4 mi. E. of Salida, Salida vicinity, SG100000784

Nachtrieb—Kelly Ranch, 25887 Cty. Rd. 319, Buena Vista vicinity, SG100000785

Smith—Friskey Ranch, Cty. Rd. 339, .5 mi. W. of road, Buena Vista vicinity, SG100000786

DELAWARE

New Castle County

Downtown Wilmington Commercial Historic District, Roughly bounded by W. 9th, N. King. W. 6th & Shipley Sts., Wilmington, SG100000790

IOWA

Johnson County

Byfield, Dr. Albert Henry, House, 715 W. Park Rd., Iowa City, SG100000792

KANSAS

Cherokee County

Soffietti—Boccia Grocery Store, 313 Fleming St., West Mineral, SG100000793

Douglas County

Mugan—Olmstead House, (Lawrence, Kansas MPS), 819 Avalon Rd., Lawrence, MP100000796

Johnson County

Hocker, R.W., Subdivision, Lot K Spec House, 5532 Knox Ave., Merriam, SG100000799

Ness County

Ness County Bridge FS-450, (Masonry Arch Bridges of Kansas TR), Cty. Rd. 20, Bazine vicinity, MP100000803

MAINE

Cumberland County

St. Joseph's Academy and Convent, 605 Stevens Ave., Portland, SG100000806

Kennebec County

North Monmouth Library, (Maine Public Libraries MPS), 132 N. Main St., Monmouth, MP100000807

Oxford County

Rumford Commercial Historic District, 49-150 Congress, 65-91 Canal, 60-94 River & 23 Hartford Sts., Rumford, SG100000808

Piscataquis County

Canadian Pacific Railway Depot, Greenville Junction, Maine, .2 mi N. of the jct. of Rockwood Rd. & Pritham Ave., Moosehead Junction Township, SG100000809

NEW JERSEY

Mercer County

Riverview Cemetery, 870 Centre St., Trenton, SG100000810

NEW YORK

Delaware County

Common School 32, 25 Bridge St., Trout Creek, SG100000811

Kings County

Bushwick Avenue Central Methodist Episcopal Church, 1139 Bushwick Ave., Brooklyn, SG100000812

Onondaga County

South Presbyterian Church, 2110 S. Salina St., Syracuse, SG100000813

Wayne County

First Methodist Episcopal Church of Walworth, 3679 Main St., Walworth, SG100000814

Nominations submitted by Federal Preservation Officers:

COLORADO

La Plata County

Animas Canon Toll Road, Between Durango and Silverton in the San Juan NF., Durango vicinity, SG100000787

The State Historic Preservation Officer reviewed the nomination and responded to the Federal Preservation Officer within 45 days of receipt of the nomination and supports listing the property in the National Register of Historic Places.

Park County

Taryall Rural Historic District, Cty. Rd. 77, mileposts 2.4 to 33.7 & 34.6 to 41.8, Jefferson vicinity, SG100000788

The State Historic Preservation Officer reviewed the nomination and responded to the Federal Preservation Officer within 45 days of receipt of the nomination and supports listing the property in the National Register of Historic Places.

UTAH

San Juan County

Rainbow Bridge Traditional Cultural Property, Address Restricted, Page, Arizona vicinity, SG100000816

The State Historic Preservation Officer reviewed the nomination and responded to the Federal Preservation Officer within 45 days of receipt of the nomination and supports listing the property in the National Register of Historic Places.

VERMONT

Franklin County

United States Post Office and Custom House, 40 S. Main St., St. Albans, SG100000817

The State Historic Preservation Officer reviewed the nomination and responded to the Federal Preservation Officer within 45 days of receipt of the nomination and supports listing the property in the National Register of Historic Places.

A request for removal has been made for the following resource(s):

COLORADO

Pueblo County

Avondale Bridge, (Vehicular Bridges in Colorado TR), Cty. Rd. 327, Avondale vicinity, OT85000225

KANSAS

Rooks County

Rooks County Record Building, 501 Main, Stockton, OT05000555

An additional documentation has been received for the following resource(s):

ARIZONA

Maricopa County

Coronado Neighborhood Historic District, 1838 N. 12th St., Phoenix, AD86000206

KANSAS

Harvey County

Brown, Samuel A., House, 302 W. Sixth, Newton, AD88001904

Sedgwick County

Topeka—Emporia Historic District, Roughly N. Topeka and Emporia Aves. bet. 10th and 13th Sts., Wichita, AD04000779

NEW YORK

Richmond County

Austen, Elizabeth Alice, House—Clear Comfort, 2 Hylan Blvd., New York, AD70000925

Authority: 60.13 of 36 CFR part 60.

Dated: February 16, 2017.
Julie H. Ernstein,
Acting Chief, National Register of Historic Places/National Historic Landmarks Program.

[FR Doc. 2017-04796 Filed 3-9-17; 8:45 am]

BILLING CODE 4312-52-P